DEPARTMENT OF AGRICULTURE

Information Collection Request; Registration Form To Request Electronic Access Code Information

AGENCY: Office of the Chief Information Officer, USDA.

ACTION: Notice and request for comments.

SUMMARY: In accordance with the Paperwork Reduction Act of 1995 (44 U.S.C. 3506), this notice announces and requests comments on the intention of the Office of the Chief Information Officer (OCIO) to request approval for the continuation of and changes to the U.S. Department of Agriculture (USDA) Registration Form to Request Electronic Access Code information collection to allow USDA customers to securely and confidently share data and receive services electronically. Authority for obtaining information from customers is included in the Freedom to E-File Act, the Electronic Signatures in Global and National Commerce Act (E-SIGN, the E-Government Act of 2002. Customer information is collected through the USDA eAuthentication Service (eAuth), located at https://www.eauth.usda.gov. The USDA eAuth service provides both public citizens as well as federal government employees with a secure single sign-on capability for USDA applications, management of user credentials, and verification of identity, authorization, and electronic signatures. USDA's eAuth Application service obtains customer information through an electronic self-registration process provided through the eAuth Web site. This voluntary online self-registration process and online identity proofing service (either in person at a USDA Service Center or online with national credit bureaus) enables USDA customers, as well as employees, to obtain accounts as authorized users that will provide single sign-on capability, self-registration, and account management to access USDA Web applications and services via the Internet.

DATES: Comments on this notice must be received on or before September 20, 2016 to be assured of consideration.

ADDRESSES:

Federal eRulemaking Portal: This Web site provides the ability to type short comments directly into the comment field on this Web page or attach a file for lengthier comments. Go to http://www.regulations.gov. Follow the on-line instructions at that site for submitting comments.

Interested persons are invited to submit comments concerning this information collection to Adam Zeimet, 2150 Centre Avenue, Building A-Suite 350, Fort Collins, Colorado 80526. Fax comments should be sent to the attention of Adam Zeimet at fax number (970) 295-5528.

FOR FURTHER INFORMATION CONTACT: Adam Zeimet by telephone at (970) 295-5678, or via email at Adam.Zeimet@usda.gov.

SUPPLEMENTARY INFORMATION: In accordance with the Paperwork Reduction Act of 1995 (44 U.S.C. Chapter 35), this notice announces the intention of USDA-OCIO-Client Technology Services-Identity Access Branch (Identity, Credential, and Access Management Program) to request approval for an existing collection.

Title: USDA Registration Form to Request Electronic Access Code.

OMB Number: 0503-0014.

Expiration Date of Approval: 12/31/2016.

Type of Request: Extension and revision of a currently approved information collection.

Abstract: The USDA OCIO has developed eAuthentication Application Services as a management and technical process that addresses user authentication and authorization prerequisites for providing services electronically. The process requires a one-time electronic self-registration to obtain an eAuth account for each USDA customer desiring access to on-line services or applications that require user authentication. USDA customers can self-register for an account at a Level of Assurance (LOA) 1 or 2 (and in the future LOA 3) as defined by OMB Memorandum M-04-04 and National Institute of Standards and Technology Special Publication 800-63-2 (or superseding publications). Level of Assurance refers to a level of confidence in the user's claimed identity. An account at LOA 1 provides users with limited access to USDA Web site portals and applications that have minimal security requirements. An account at LOA 2 enables users to conduct official electronic business transactions via the Internet, enter into a contract with the USDA, and submit forms electronically via the Internet to USDA agencies. Due to the increased risk associated with these types of transactions, the identity of customers must be verified through a process called “identity proofing”, in addition to completing an electronic self-registration. Identity proofing can be accomplished for customers in two ways: (1) By visiting a local registrant authority at a USDA Service Center; or (2) Through an online identity proofing service implemented with an integration with a National Credit Bureau. The new on-line identity proofing service will provide registrants with a more efficient mechanism to have their identity proofed. The on-line identity proofing requires responses to at least four randomly selected identity questions that are verified by a national credit bureau identity proofing service in an automated interface. The USDA OCIO is also developing a solution to provide accounts for public citizens at LOA 3, which leverages the same self-registration and identity proofing, but also incorporates strong multi-factor authentication credentials for access to secure, high risk, or sensitive systems, if authorized. Once an account is activated, customers may use the associated credential to access USDA resources that are protected by eAuth.

Estimate of Burden: Public reporting burden for this collection of information is estimated to take eight (8) minutes to complete the self-registration process for a LOA 1 account. LOA 2 (and in the future, LOA 3) account registration is estimated to be completed in one hour 40 minutes when travelling to a USDA Service Center to visit a local registration authority (expected to be approximately 30% of the registrants), or ten (10) minutes when using the on-line identity proofing service (expected to be approximately 70% of the registrants).

Respondents: Individual USDA Customers.

Estimated Number of Respondents per Level:

• LOA 1 Account: 114,256.

• LOA 2 Account: 17,848.

○ In Person ID Proofing (subset of LOA 2): 5,354.

○ Online\Remote ID Proofing (subset of LOA 2): 12,494.

Estimated Total Number of Respondents: 132,104.

Estimated Number of Responses per Respondent: 1.

Estimated Total Annual Burden on Respondents: 26,239.8 hours.

Comments are invited on (1) Whether the proposed collection of information is necessary for the proper performance of the functions of the agency, including whether the information will have practical utility; (2) the accuracy of the agency's estimate of burden of the proposed collection of information, including the validity of the methodology and assumptions used; (3) ways to enhance the quality, utility, and clarity of the information to be collected; and (4) ways to minimize the burden of the collection of the information on those who respond, through the use of appropriate automated, electronic, mechanical, technological or other forms of information technology collection methods. Copies of the information collection may be obtained from Mr. Zeimet by calling or emailing your request to the contact information above in the FOR FURTHER INFORMATION section. All responses to this notice will be summarized and included in the request for OMB approval. All comments will become a matter of public record.

Dated: July 11, 2016.
Jonathan Alboum,
Chief Information Officer, Office of the Chief Information Officer.

[FR Doc. 2016-16817 Filed 7-21-16; 8:45 am]

BILLING CODE 3410-KR-P